ENVIRONMENTAL PROTECTION AGENCY

[EPA-HQ-OAR-2006-0407; FRL-8238-5]

Agency Information Collection Activities; Submission to OMB for Review and Approval; Comment Request; Information Collection Activities Associated With EPA's ENERGY STAR Program in the Commercial and Industrial Sectors (Renewal); EPA ICR No. 1772.04, OMB Control No. 2060-0347

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before December 4, 2006.

ADDRESSES: Submit your comments, identified by Docket ID No. EPA-HQ-OAR-2006-0407, to: (1) EPA online using http://www.regulations.gov (our preferred method), by e-mail to a-and-r-Docket@epa.gov, or by mail to: EPA Docket Center, Environmental Protection Agency, Air and Radiation Docket and Information Center, Mailcode: 6102T, 1200 Pennsylvania Ave., NW., Washington, DC 20460, and (2) OMB by mail to: Office of Information and Regulatory Affairs, Office of Management and Budget (OMB), Attention: Desk Officer for EPA, 725 17th Street, NW., Washington, DC 20503.

Note: The EPA Docket Center suffered damage due to flooding during the last week of June 2006. The Docket Center is continuing to operate. However, during the cleanup, there will be temporary changes to Docket Center telephone numbers, addresses, and hours of operation for people who wish to make hand deliveries or visit the Public Reading Room to view documents. Consult EPA's Federal Register notice at 71 FR 38147 (July 5, 2006) or the EPA Web site at http://www.epa.gov/epahome/dockets.htm for current information on docket operations, locations and telephone numbers. The Docket Center's mailing address for U.S. mail and the procedure for submitting comments to http://www.regulations.gov are not affected by the flooding and will remain the same.

FOR FURTHER INFORMATION CONTACT: Mary Susan Bailey, Climate Protection Partnerships Division, Mailcode: 6202J, Environmental Protection Agency, 1200 Pennsylvania Ave., NW., Washington, DC 20460; telephone number: 202-343-9014; fax number: 202-343-2204; e-mail address: bailey.marysusan@epa.gov.

SUPPLEMENTARY INFORMATION: EPA has submitted the following ICR to OMB for review and approval according to the procedures prescribed in 5 CFR 1320.12. On June 1, 2006 (71 FR 31179), EPA sought comments on this ICR pursuant to 5 CFR 1320.8(d). EPA received no comments. Any additional comments on this ICR should be submitted to EPA and OMB within 30 days of this notice.

EPA has established a public docket for this ICR under Docket ID No. EPA-HQ-OAR-2006-0407, which is available for online viewing at http://www.regulations.gov, or in person viewing at the Air and Radiation Docket and Information Center in the EPA Docket Center (EPA/DC), EPA West, Room B102, 1301 Constitution Ave., NW., Washington, DC. The EPA/DC Public Reading Room is open from 8 a.m. to 4:30 p.m., Monday through Friday, excluding legal holidays. The telephone number for the Reading Room is 202-566-1744, and the telephone number for the Air and Radiation Docket and Information Center is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, CBI, or other information whose public disclosure is restricted by statute. For further information about the electronic docket, go to http://www.regulations.gov.

Title: Information Collection Activities Associated with EPA's ENERGY STAR Program in the Commercial and Industrial Sectors (Renewal).

ICR numbers: EPA ICR No. 1772.04, OMB Control No. 2060-0347.

ICR Status: This ICR is currently scheduled to expire on November 30, 2006. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: ENERGY STAR is a voluntary program helping businesses and individuals protect the environment through superior energy efficiency. The Program focuses on reducing utility-generated emissions by reducing the demand for energy. In 1991, EPA launched the Green Lights program to encourage corporations, State and local governments, colleges and universities, and other organizations to adopt energy-efficient lighting as a profitable means of preventing pollution and improving lighting quality. Since then, EPA has rolled Green Lights into ENERGY STAR and expanded ENERGY STAR to encompass organization-wide energy performance improvement, such as building technology upgrades, product purchasing initiatives, and employee training. At the same time, EPA has streamlined the reporting requirements of ENERGY STAR and focused on providing incentives for improvements (e.g., ENERGY STAR Awards Program). EPA also makes tools and other resources available over the Web to help the public overcome the barriers to evaluating their energy performance and investing in profitable improvements.

To join ENERGY STAR, organizations are asked to complete a Partnership Letter or Agreement that establishes their commitment to energy efficiency. Partners agree to undertake efforts such as baselining, tracking, and benchmarking their organization's energy performance by using tools such as those offered by ENERGY STAR; developing and implementing a plan to improve energy performance in their facilities and operations by following the energy management strategy provided by ENERGY STAR; and educating staff and the public about their Partnership with ENERGY STAR, and highlighting achievements with the ENERGY STAR, where available.

Partners also may be asked to periodically submit information to EPA as needed to assist in program implementation. For example, EPA maintains the Service and Product Provider Directory to provide the public with easy access to energy efficiency services and products that can help companies lower operating costs and increase their bottom line. Businesses wishing to appear in this directory are asked to submit a completed profile that details their services and products.

Partnership in ENERGY STAR is voluntary and can be terminated by Partners or EPA at any time. EPA does not expect organizations to join the program unless they expect participation to be cost-effective and otherwise beneficial for them.

In addition, Partners and any other interested party can help EPA promote energy-efficient technologies by evaluating the efficiency of their buildings using EPA's on-line tools (e.g., Portfolio Manager) and applying for recognition.

If a claim of confidential business information (CBI) is asserted, EPA will manage that information in accordance with EPA's provisions on confidentiality.

Burden Statement: The annual public recordkeeping and reporting burden for joining the ENERGY STAR program and related activities is expected to vary depending on the type of Partner. The burden per Partner is expected to range from about 2 hours for a Commercial and Industrial Sector Partner to prepare/submit a Partnership Letter to 7 hours for an Energy Efficiency Program Sponsor to prepare/submit a Partnership Agreement and related information (e.g., a brief plan outlining the key activities it intends to undertake to cooperatively promote ENERGY STAR in the commercial and/or industrial markets). These burden estimates include the time for reading the instructions and requirements, gathering information, and preparing/submitting the information to EPA. The burden for benchmarking in Portfolio Manager is estimated to vary depending on the type of benchmarking method. The burden per respondent for manual benchmarking is estimated to be 30 minutes to read Portfolio Manager instructions, 5 hours to gather and enter building data for a new benchmark, and 1.5 hours to perform a repeat benchmark. The burden per respondent for the import tool is estimated to be 30 minutes for reading the Portfolio Manager instructions and 1 hour for collecting building data, downloading it into the tool, and emailing it to EPA. The burden per respondent for ENERGY STAR Exchange Services is estimated to be 20 hours for the host to set up its account and automated process, 2 hours to collect building data and set up each customer, and 15 minutes per month to submit customer information to EPA and retrieve/relay scores to customers. The burden for entering information into the ENERGY STAR Energy Performance Indicator (EPI) is estimated to range from 10 to 15 minutes per plant. This includes time for reading the EPI's instructions and entering data in order to generate a score. Finally, the burden per respondent for applying to EPA for recognition is estimated to vary depending on the type of recognition. The burden per respondent is estimated to range from 15 minutes for preparing/submitting a plant's energy efficiency score to EPA for recognition (e.g., for EPA permission to display a banner or plant flag) to 26.5 hours for preparing/submitting an application to EPA for an ENERGY STAR Award.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Organizations participating in ENERGY STAR in the Commercial and Industrial Sectors.

Approximate Number of Respondents: 6,000.

Frequency of Response: One-time, on occasion, monthly, annually, and/or periodically, depending on the type of respondent and collection.

Estimated Total Annual Hour Burden: 54,500.

Estimated Total Annual Cost: $5,436,710, including $3,574,491 in labor costs and $1,862,219 in O&M costs. There are no capital/start-up costs to respondents.

Changes in the Estimates: There is a decrease of 28,843 hours in the total estimated annual burden hours currently identified in the OMB Inventory of Approved ICR Burdens. The majority of this decrease occurred because EPA adjusted the number of respondents and the burden for some activities based on improved and updated data and analysis. The burden estimates in ICR 1772.04 reflect EPA's program experience gained over the past three years. In addition, EPA modified some of its information collections to address EPA and stakeholder needs.

Dated: October 28, 2006.
Oscar Morales,
Director, Collection Strategies Division.

[FR Doc. E6-18497 Filed 11-1-06; 8:45 am]

BILLING CODE 6560-50-P